NATIONAL CAPITAL PLANNING COMMISSION

Performance Review Board Members

ACTION: Notice of Senior Executive Service (SES) Performance Review Board (PRB) appointment.

SUMMARY: The National Capital Planning Commission (NCPC) announces the appointment of members to the NCPC SES, fiscal year 2024-2026 PRB. The purpose of the PRB is to provide fair and impartial review of the annual SES performance appraisal prepared by the senior executive's immediate and second level supervisor; to make recommendations to appointing officials regarding acceptance or modification of the performance rating; and to make recommendations for performance-based bonuses and performance-based pay increases.

FOR FURTHER INFORMATION CONTACT: If you have any questions regarding this submission, please contact Lori C. Abdin, lori.abdin@ncpc.gov, (202) 482-7216.

SUPPLEMENTARY INFORMATION: NCPC, as required by 5 U.S.C. 4314(c)(1) through (5), has established a Senior Executive Service PRB. Members of the PRB serve for a period of 36 months. In the case of an appraisal of a career appointee, more than half of the members shall consist of career appointees, pursuant to 5 U.S.C. 4314(c)(5). The names and titles of the PRB members are as follows:

—Ms. Paige Cottingham-Streater, Executive Director, Japan U.S. Friendship Commission

—Mr. Christopher Roscetti, Deputy Director for Environment, Health, and Safety, U.S. Department of Energy

—Tammy Stidham, Associate Regional Director, National Park Service

Lori Abdin,
HR Officer, Deputy Director, Operations & Administration Division, National Capital Planning Commission.

[FR Doc. 2026-00500 Filed 1-13-26; 8:45 am]

BILLING CODE 7520-02-P